DEPARTMENT OF THE TREASURY

Internal Revenue Service

26 CFR Part 1

[REG-119352-00]

RIN 1545-AY58

Guidance on Filing an Application for a Tentative Carryback Adjustment in a Consolidated Return Context; Hearing Cancellation

AGENCY: Internal Revenue Service (IRS), Treasury.

ACTION: Cancellation of notice of public hearing on proposed rulemaking.

SUMMARY: This document provides notice of cancellation of a public hearing on proposed regulations relating to the filing of application for a tentative carryback adjustment in a consolidated return context.

DATES: The public hearing originally scheduled for Thursday, April 26, 2001, at 10 a.m., is canceled.

FOR FURTHER INFORMATION CONTACT: Guy R. Traynor, Regulations Unit, Office of Special Counsel, (202) 622-7180 (not a toll-free number).

SUPPLEMENTARY INFORMATION: A notice of proposed rulemaking and notice of public hearing that appeared in the Federal Register on January 4, 2001 (66 FR 747), announced that a public hearing was scheduled for April 26, 2001, at 10 a.m., in room 4718 of the Internal Revenue Service Building, 1111 Constitution Avenue NW., Washington, DC 20408. The subject of the public hearing is proposed regulations under section 1502 of the Internal Revenue Code. The public comment period for these proposed regulations expired on April 4, 2001.

The notice of proposed rulemaking and notice of public hearing, instructed those interested in testifying at the public hearing to submit a request to speak and an outline of the topics to be addressed. As of April 9, 2001, no one has requested to speak. Therefore, the public hearing scheduled for April 26, 2001, is canceled.

Cynthia E. Grigsby,
Chief, Regulations Unit, Office of Special Counsel (Modernization & Strategic Planning).

[FR Doc. 01-9118 Filed 4-12-01; 8:45 am]

BILLING CODE 4830-01-U